DEPARTMENT OF HEALTH AND HUMAN SERVICES

Centers for Medicare & Medicaid Services

42 CFR Parts 405, 413, and 417

[CMS-1727-RCN]

RIN 0938-AL54

Medicare Program; Provider Reimbursement Determinations and Appeals; Extension of Timeline for Publication of Final Rule

AGENCY: Centers for Medicare & Medicaid Services (CMS), HHS.

ACTION: Extension of timeline.

SUMMARY: Section 1871(a)(3)(A) of the Social Security Act (the Act) requires us to publish a Medicare final rule no later than 3 years after the publication date of the proposed rule. This notice announces an extension of the timeline for publication of a Medicare final rule in accordance with section 1871(a)(3)(B) of the Act, which allows us to extend the timeline for publication of final rules under exceptional circumstances.

DATES: The timeline for the publication of a final rule is extended until June 25, 2008.

FOR FURTHER INFORMATION CONTACT: Morton Marcus, (410) 786-4477. Donald Romano, (410) 786-1401.

SUPPLEMENTARY INFORMATION:

I. Background

Section 1871(a)(3)(A) of the Act requires us to establish and publish a regular timeline for the publication of final regulations based on the previous publication of a proposed regulation. In accordance with section 1871(a)(3)(B) of the Act, the timeline may vary among different regulations based on differences in the complexity of the regulation, the number and scope of comments received, and other relevant factors, but may not be longer than 3 years except under exceptional circumstances. If the Secretary intends to vary the timeline for publication of a final rule, the Secretary is required to publish notice of the different timeline in the Federal Register no later than the timeline previously established for the final rule. The notice is required to include a brief explanation of the justification for the variation in timeline.

II. Notice of Continuation

In the June 25, 2004 Federal Register (69 FR 35716), we published a proposed rule that would update, clarify, and revise various provisions of the regulations governing provider reimbursement determinations, appeals before the Provider Reimbursement Review Board (PRRB), appeals before the intermediaries and Administrator review of decisions made by the PRRB.

This notice extends the timeline for publication of the final rule. We are not able to meet the 3-year timeline for publication due to the complexity of the public comments received, and the complex policy and legal issues raised by those comments, which require extensive consultation and analysis. These extraordinary circumstances require an extension of the timeline; therefore this notice extends the timeline for publication of the final rule until June 25, 2008.

Authority: Section 1871 of the Social Security Act (42 U.S.C. 1395hh).

(Catalog of Federal Domestic Assistance Program No. 93.774, Medicare—Supplementary Medical Insurance Program)

Dated: June 12, 2007.
Ann Agnew,
Executive Secretary to the Department.

[FR Doc. E7-11721 Filed 6-21-07; 8:45 am]

BILLING CODE 4120-01-P